DEPARTMENT OF COMMERCE

National Oceanic and Atmospheric Administration

RIN 0648-XD825

Marine Mammals; File Nos. 17278 and 17557

AGENCY: National Marine Fisheries Service (NMFS), National Oceanic and Atmospheric Administration (NOAA), Commerce.

ACTION: Notice; receipt of applications for permit amendments.

SUMMARY: Notice is hereby given that James Shine, Ph.D., Harvard University School of Public Health, 401 Park Drive, 404H West, Boston, Massachusetts 02215, and the NMFS Forensics Office, 219 Fort Johnson Road, Charleston, SC 29412, have applied for amendments to their respective permits, Scientific Research Permit Nos. 17278 and 17557.

DATES: Written, telefaxed, or email comments must be received on or before April 20, 2015.

ADDRESSES: The applications and related documents are available for review by selecting “Records Open for Public Comment” from the “Features” box on the Applications and Permits for Protected Species home page, https://apps.nmfs.noaa.gov, and then selecting File No. 17278 or 17557 from the list of available applications.

These documents are also available upon written request or by appointment in the Permits and Conservation Division, Office of Protected Resources, NMFS, 1315 East-West Highway, Room 13705, Silver Spring, MD 20910; phone (301) 427-8401; fax (301) 713-0376.

Written comments on these applications should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing would be appropriate.

FOR FURTHER INFORMATION CONTACT: Jennifer Skidmore, Amy Sloan, or Malcolm Mohead; phone: (301) 427-8401.

SUPPLEMENTARY INFORMATION: The subject amendments to these permits are requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 17278, issued on August 29, 2012 (77 FR 54902), authorizes Dr. Shine to import and receive parts from subsistence-collected long-finned pilot whales (Globicephala melas) archived at the Faroese Museum of Natural History, Foroe Islands. The permit holder is requesting the permit be amended to increase the number of samples imported from 15 to 100 animals annually, as well as authorization to conduct analyses of chlorinated and fluorinated organic chemicals using the same samples. No live takes from the wild would be authorized. The permit expires on August 28, 2017.

Permit No. 17557, issued on August 9, 2013 (78 FR 50395), authorizes the NMFS Forensics Office to receive, import, export, transfer, archive, and conduct analyses marine mammal and endangered species parts. Species include all those covered under the MMPA and ESA under NMFS jurisdiction. Samples are archived at the lab and used to support law enforcement actions, research studies (primarily genetics), and outreach education. The permit holder is requesting the permit be amended to include scalloped hammerhead sharks (Sphyrna lewinia) recently listed under the ESA. No live takes from the wild would be authorized. The permit expires on August 9, 2018.

In compliance with the National Environmental Policy Act of 1969 (42 U.S.C. 4321 et seq.), an initial determination has been made that the activity proposed is categorically excluded from the requirement to prepare an environmental assessment or environmental impact statement.

Concurrent with the publication of this notice in the Federal Register, NMFS is forwarding a copy of the amendment submitted for Permit No. 17278 to the Marine Mammal Commission and its Committee of Scientific Advisors.

Dated: March 16, 2015.
Julia Harrison,
Chief, Permits and Conservation Division, Office of Protected Resources, National Marine Fisheries Service.

[FR Doc. 2015-06391 Filed 3-19-15; 8:45 am]

BILLING CODE 3510-22-P